ENVIRONMENTAL PROTECTION AGENCY

[ER-FRL-6633-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities AT (202) 564-7167.

An explanation of the ratings assigned to draft environmental impact statements (EISs) was published in FR dated April 12, 2002, (67 FR 17992).

Draft EISs

ERP No. D-BLM-K65241-CA Rating LO, Headwaters Forest Reserve, Implementation Resource Management Plan, Long-Term Management Plan and Planning Framework, Located in the northwestern Coast Ranges near Humboldt Bay in Humboldt County, CA.

Summary: EPA supports the plan to maintain the ecological integrity of the Reserve while assuring compatible and adequate public access and recreation opportunities. EPA recommend the Final EIS evaluate in more detail the environmental consequences of the no action alternative and provide a summary of the potential cumulative effects of the proposed management actions.

ERP No. D-BLM-L03012-AK Rating LO, Renewal of Federal Grant for the Trans-Alaska Pipeline System, Right-of-Way, Approval, AK.

Summary: EPA expressed lack of objections and suggested that the final EIS clarify whether existing stipulations and mitigation measures would be carried forward with renewal of the Federal Grant. EPA also identified additional treaties and law applicable to subsistence issues that should be integrated into the analyses of the final EIS.

ERP No. D-FHW-G50010-00 Rating LO, I-69 Mississippi River Crossing, Construction, from a western terminus at U.S. 65 near McGehee, AR to an eastern terminus at State Highway 1 near Benoit, MS, U.S. Coast Guard Bridge Permit, U.S. Army Corps Section 10 and 404 Permits, NPDES Permit, Desha County, AR and Bolivar County, MS.

Summary: EPA expressed no objections to the selection of the preferred alternative but has requested clarification and additional information to strengthen the Final EIS.

ERP No. D1-FHW-F40356-WI Rating EO2, U.S. 10 Highway Improvements between Marshfield and Appleton, Trestik Road—CTH “K” (Stevens Point Bypass), Funding and COE Section 404 Permit, Portage County, WI.

Summary: EPA expressed environmental objections as a result of wetland impacts associated with each build alternative, the lack of a complete conceptual wetland mitigation plan, concerns over cumulative impact analysis, and impacts to endangered species.

Final EISs

ERP No. F-AFS-J65313-CO, White River National Forest Land and Resource Management Plan 2002 Revision, Alternative K is the Selected Alternative, Implementation, Eagle, Garfield, Gunnison, Mesa, Moffat, Pitkin, Rio Blanco, Routt and Summit Counties, CO.

Summary: EPA continued to express environmental concerns about potentially adverse cumulative impacts to aquatic and alpine tundra habitat.

ERP No. F-FHW-F40393-MI, I-96/Airport Area Access Study, Transportation Improvements, Surrounding the Gerald R. Ford International Airport, Kent County, MI.

Summary: EPA expressed environmental concerns about woodland and stream impacts and the project's ability to satisfy mobility goals.

ERP No. F-NPS-G03019-TX, Lake Meredith National Recreation Area and Alibates Flint Quarries National Monument Oil and Gas Management Plan, Hutchinson, Moore and Potter Counties, TX.

Summary: EPA has no objections to the selection of the preferred alternative.

Dated: September 17, 2002.
Joseph C. Montgomery,
Director, NEPA Compliance Division, Office of Federal Activities.

[FR Doc. 02-24000 Filed 9-19-02; 8:45 am]

BILLING CODE 6560-50-P